DEPARTMENT OF TRANSPORTATION

Federal Aviation Administration

14 CFR Part 39

[Docket No. FAA-2007-0056; Directorate Identifier 2007-SW-06-AD; Amendment 39-15409; AD 2008-05-15]

RIN 2120-AA64

Airworthiness Directives; Eurocopter France Model EC130 B4 Helicopters

AGENCY: Federal Aviation Administration (FAA), Department of Transportation (DOT).

ACTION: Final rule.

SUMMARY: We are adopting a new airworthiness directive (AD) for Eurocopter France Model EC130 B4 helicopters. This AD results from mandatory continuing airworthiness information (MCAI) originated by an aviation authority of another country to identify and correct an unsafe condition on an aviation product. The European Safety Agency (EASA), the Technical Agent for France, with which we have a bilateral agreement, states in the MCAI:

This Airworthiness Directive (AD) is issued following the discovery of several cases of loosened rivets in the tube-to-flange attachment of the tail rotor drive center section shaft.

In one case, this loosening of rivets was associated with a crack in the tube which started from a loosened-rivet hole.

These occurrences can lead to failure of the tail rotor drive center section shaft.

We are issuing this AD to correct the unsafe condition caused by cracks and loosened rivets in the tube-to-flange attachment of the tail rotor and the unsafe condition caused by the out-of-perpendicularity of the No. 1 bearing.

DATES: This AD becomes effective on April 16, 2008.

The Director of the Federal Register approved the incorporation by reference of certain publications listed in this AD as of April 16, 2008.

ADDRESSES: You may examine the AD docket on the Internet at http://www.regulations.gov or in Room W12-140, Docket Operations Office, on the ground floor of the Department of Transportation West Building, 1200 New Jersey Avenue, SE., Washington, DC 20590.

You may get the service information identified in this AD from American Eurocopter Corporation, 2701 Forum Drive, Grand Prairie, Texas 75053-4005, telephone (972) 641-3460, fax (972) 641-3527.

FOR FURTHER INFORMATION CONTACT: Ed Cuevas, Aviation Safety Engineer, FAA, Rotorcraft Directorate, Safety Management Group, Fort Worth, Texas 76193-0111, telephone (817) 222-5355, fax (817) 222-5961.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

Discussion

We issued a notice of proposed rulemaking (NPRM) to amend 14 CFR part 39 to include an AD that would apply to Eurocopter France Model EC130B3 helicopters. That NPRM was published in the Federal Register on October 19, 2007 (72 FR 59229). That NPRM proposed to correct the unsafe conditions for the specified model helicopter. The MCAI states:

This Airworthiness Directive (AD) is issued following the discovery of several cases of loosened rivets in the tube-to-flange attachment of the tail rotor drive center section shaft.

In one case, this loosening of rivets was associated with a crack in the tube which started from a loosened-rivet hole.

These occurrences can lead to failure of the tail rotor drive center section shaft.

Comments

We gave the public the opportunity to participate in developing this AD. We received no comments on the NPRM or on the determination of the cost to the public. We reviewed the available data and determined that air safety and the public interest require adopting the AD as proposed.

Costs of Compliance

We estimate that this AD will affect 68 helicopters of U.S. registry and that it will take about 1 work-hour per helicopter to determine if there are any cracks or loosened rivets in the tube-to-flange attachment of the tail rotor drive center section shaft and to determine if the No. 1 bearing is out-of-perpendicularity. Also, we estimate that it will take about 4 work-hours per helicopter to remove and replace any nonconforming parts. The average labor rate is $80 per work-hour. Required parts will cost about $15,007 per helicopter if replacing a tail rotor drive center section shaft is necessary. Based on these figures, we estimate the cost to inspect the fleet of helicopters to be $5,440. Assuming 3 helicopters are found to have nonconforming parts, we estimate the costs to replace these parts to be $45,981, resulting in the total cost of the AD on U.S. operators to be $51,421.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

Examining the AD Docket

You may examine the AD docket in person at the Docket Operations office between 9 a.m. and 5 p.m., Monday through Friday, except Federal holidays. The AD docket contains the NPRM, the economic evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-05-15 Eurocopter France: Amendment 39-15409. Docket No. FAA-2007-0056; Directorate Identifier 2007-SW-06-AD.

Effective Date

(a) This airworthiness directive (AD) becomes effective on April 16, 2008.

Other Affected ADs

(b) None.

Applicability

(c) This AD applies to Model EC130 B4 helicopters, with a tail rotor drive center section shaft, part number (P/N) 350A340202; and bearing, P/N 593404, certificated in any category.

Reason

(d) The mandatory continuing airworthiness information (MCAI) states:

This Airworthiness Directive (AD) is issued following the discovery of several cases of loosened rivets in the tube-to-flange attachment of the tail rotor drive center section shaft.

In one case, this loosening of rivets was associated with a crack in the tube which started from a loosened-rivet hole.

These occurrences can lead to failure of the tail rotor drive center section shaft.

Actions and Compliance

(e) Within 50 hours time-in-service (TIS) or 3 months, whichever occurs first, unless already done, do the following actions.

(1) Inspect for cracks or loosened rivets in the tube-to-flange attachment of the tail rotor drive center section shaft and inspect the perpendicularity of bearing No. 1 in compliance with the Accomplishment Instructions, paragraph 2.B.2., of Eurocopter Alert Service Bulletin No. 65A002, dated November 16, 2005 (ASB).

(2) If a crack or loosened rivet is found, replace the tail rotor drive center section shaft before further flight.

(3) If the out-of perpendicularity of the bearing is more than 0.1 mm, apply the corrective procedure described in the Accomplishment Instructions, paragraph 2.B.2., of the ASB.

Differences Between the FAA AD and the MCAI

(f) None.

Subject

(g) Air Transport Association of America (ATA) Code 65, Tail rotor drive—tail rotor drive shaft.

Other Information

(h) The following provisions also apply to this AD:

(1) Alternative Methods of Compliance (AMOCs): The Manager, Safety Management Group, Rotorcraft Directorate, FAA, has the authority to approve AMOCs for this AD, if requested using the procedures found in 14 CFR 39.19. Send information to ATTN: Ed Cuevas, Aviation Safety Engineer, Fort Worth, Texas 76193-0111, telephone (817) 222-5355, fax (817) 222-5961.

(2) Airworthy Product: Use only FAA-approved corrective actions. Corrective actions are considered FAA-approved if they are approved by the State of Design Authority (or their delegated agent) if the State of Design has an appropriate bilateral agreement with the United States. You are required to assure the product is airworthy before it is returned to service.

(3) Reporting Requirements: For any reporting requirement in this AD, under the provisions of the Paperwork Reduction Act, the Office of Management and Budget (OMB) has approved the information collection requirements and has assigned OMB Control Number 2120-0056.

Related Information

(i) MCAI European Aviation Safety Agency (EASA) Airworthiness Directive No. F-2005-190, Revision A, dated November 23, 2005, contains related information.

Material Incorporated by Reference

(j) You must use the specified portions of Eurocopter Alert Service Bulletin No. 65A002, dated November 16, 2005, to do the actions required by this AD, unless the AD specifies otherwise.

(1) The Director of the Federal Register approved the incorporation by reference of this service information under 5 U.S.C. 552(a) and 1 CFR part 51.

(2) For service information identified in this AD, contact American Eurocopter Corporation, 2701 Forum Drive, Grand Prairie, Texas 75053-4005, telephone (972) 641-3460, fax (972) 641-3527.

(3) You may review copies at the FAA, Office of the Regional Counsel, Southwest Region, 2601 Meacham Blvd., Room 663, Fort Worth, Texas or at the National Archives and Records Administration (NARA). For information on the availability of this material at NARA, call (202) 741-6030, or go to: http://www.archives.gov/federal-register/cfr/ibr-locations.html.

Issued in Fort Worth, Texas, on February 14, 2008.
Mark R. Schilling,
Acting Manager, Rotorcraft Directorate, Aircraft Certification Service.

[FR Doc. E8-4464 Filed 3-11-08; 8:45 am]

BILLING CODE 4910-13-P